DEPARTMENT OF ENERGY

Federal Energy Regulatory Commission

[Docket No. CP03-59-002]

Questar Pipeline Company; Notice of Compliance Filing

June 16, 2003.

Take notice that on June 10, 2003, Questar Pipeline Company (Questar) tendered for filing as part of its FERC Gas Tariff, Original Volume No. 3, Fourth Revised Sheet No. 3, to be effective March 1, 2003.

Questar states that, on May 8, 2003, it filed tariff sheets in compliance with the Commission's order issued April 24, 2003, in Docket No. CP03-59-000, which approved the abandonment of Rate Schedule X-34 of Questar's FERC Gas Tariff, Original Volume No. 3. This compliance filing was accepted to be effective March 1, 2003, by the Commission's June 2, 2003, letter order. Questar explains that an additional tariff sheet in the Table of Contents has been affected by this acceptance and is being tendered in this filing to reflect the cancellation of Rate Schedule X-34.

Questar states that a copy of this filing has been served upon Questar's Original Volume No. 3 customers, the Public Service Commission of Utah and the Public Service Commission of Wyoming.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 23, 2003.

Magalie R. Salas,
Secretary.

[FR Doc. 03-15746 Filed 6-20-03; 8:45 am]

BILLING CODE 6717-01-P